DEPARTMENT OF COMMERCE

Economic Development Administration

Notice of National Advisory Council on Innovation and Entrepreneurship Meeting

AGENCY: Economic Development Administration, Commerce.

ACTION: Notice of an open meeting.

SUMMARY: The National Advisory Council on Innovation and Entrepreneurship (NACIE) will hold a public meeting on Thursday, June 16, 2016, from 2:00-4:00 p.m. Eastern Time (ET) and Friday, June 17, 2016, from 8:30 a.m.-12:00 p.m. ET. During this time, members will continue to work on various Council initiatives which include innovation, entrepreneurship, and talent development.

DATES: The meeting will be held on Thursday, June 16, 2016, from 2:00-4:00 p.m. Eastern Time (ET) and on Friday, June 17, 2016, from 8:30 a.m.-12:00 p.m. ET. Pre-clearance is required to attend the Friday portion of the meeting in person. If you wish to attend this portion of the meeting, you must notify Julie Lenzer (see contact information below) no later than 11:59 p.m. ET on Monday, June 13, 2016.

ADDRESSES: The Thursday portion of the meeting will be held at the Herbert Clark Hoover Building, Room 1894, 1401 Constitution Avenue NW., Washington, DC 20230. The Friday portion of the meeting will be held at the Eisenhower Executive Office Building, Room 210/212, 1650 Pennsylvania Avenue NW., Washington, DC 20504.

Teleconference

June 16-17, 2016.

Dial-In: +1 877 950 4778 or +1 517 244 5888.

Passcode: 4423486.

FOR FURTHER INFORMATION CONTACT: Julie Lenzer, Office of Innovation and Entrepreneurship, Room 78018, 1401 Constitution Avenue NW., Washington, DC 20230; email: nacie@doc.gov; telephone: +1 202 482 8001; fax: +1 202 273 4781. Please reference “NACIE June 2016 Meeting” in the subject line of your correspondence.

SUPPLEMENTARY INFORMATION: The Council was chartered on November 10, 2009, to advise the Secretary of Commerce on matters related to innovation and entrepreneurship in the United States. NACIE's overarching focus is recommending transformational policies to the Secretary that will help U.S. communities, businesses, and the workforce become more globally competitive. The Council operates as an independent entity within the Office of Innovation and Entrepreneurship (OIE), which is housed within the U.S. Commerce Department's Economic Development Administration. NACIE members are a diverse and dynamic group of successful entrepreneurs, innovators, and investors, as well as leaders from nonprofit organizations and academia.

The purpose of this meeting is to discuss the Council's planned work initiatives in three focus areas: Workforce/talent, entrepreneurship, and innovation. The final agenda will be posted on the NACIE Web site at http://www.eda.gov/oie/nacie/ prior to the meeting. Any member of the public may submit pertinent questions and comments concerning the Council's affairs at any time before or after the meeting. Comments may be submitted to the Office of Innovation and Entrepreneurship at the contact information below. Those unable to attend the meetings in person but wishing to listen to the proceedings can do so through a conference call line accessible via +1 877 950 4778 or +1 517 244 5888 with passcode 4423486. Copies of the meeting minutes will be available by request within 90 days of the meeting date.

Dated: June 2, 2016.
Julie Lenzer,
Director, Office of Innovation and Entrepreneurship.

[FR Doc. 2016-13412 Filed 6-6-16; 8:45 am]

BILLING CODE 3510-WH-P